POSTAL SERVICE BOARD OF GOVERNORS

Sunshine Act Meeting

TIMES AND DATES: 10:00 A.M., Monday, February 4, 2002; 8:30 a.m., Tuesday, February 5, 2002.

PLACE: Phoenix, Arizona, at the Biltmore Hotel, 24th Street and Missouri, in the Canyon and Grand Rooms.

STATUS: February 4—10 a.m. (Closed); February 5—8:30 a.m. (Open).

MATTERS TO BE CONSIDERED:

Monday, February 4—10 a.m. (Closed)

1. Financial Performance.

2. Preliminary Annual Performance Plan Target FY 2003.

3. Strategic Planning.

4. Personnel Matters and Compensation Issues.

Tuesday, February 5—8:30 a.m. (Open).

1. Minutes of the Previous Meeting, January 7-8, 2002.

2. Remarks of the Postmaster General and CEO.

3. Appointment of Members to Board Committees.

4. Report on the Western Area and Phoenix Performance Cluster.

5. Tentative Agenda for the March 4-5, 2002, meeting in Washington, DC.

CONTACT PERSON FOR MORE INFORMATION: David G. Hunter, Secretary of the Board, U.S. Postal Service, 475 L'Enfant Plaza, SW., Washington, DC 20260-1000. Telephone (202) 268-4800.

David G. Hunter,
Secretary.

[FR Doc. 02-2014 Filed 1-23-02; 2:01 pm]

BILLING CODE 7710-12-M